DEPARTMENT OF ENERGY

Federal Energy Regulatory Commission

[Docket No. CP06-449-000, Docket No. CP06-450-000, Docket No. CP06-451-000, Docket No. CP06-448-000]

Kinder Morgan Louisiana Pipeline LLC, Natural Gas Pipeline Company of America; Notice of Applications

September 19, 2006.

Take notice that on September 8, 2006, Kinder Morgan Louisiana Pipeline LLC (Kinder Morgan Louisiana), 747 East 22nd Street, Lombard, Illinois 60148, filed applications in Docket Nos. CP06-451-000, CP06-450-000 and CP06-449-000, pursuant to section 7(c) of the Natural Gas Act (NGA) and Parts 157 and 284 of the Commission's regulations. Kinder Morgan Louisiana is requesting certificates of public convenience and necessity: (i) To construct and operate natural gas pipeline facilities that will originate in Cameron Parish, Louisiana and terminate in Evangeline Parish, Louisiana, and to lease firm capacity on a long-term basis from Natural Gas Pipeline Company of America (Natural) [Docket No. CP06-449-000]; (ii) for the future construction of facilities pursuant to blanket certificate authority under part 157, subpart F of the Commission's Regulations [Docket No. CP06-450-000], and (iii) for the undertaking of self-implementing interstate transportation service under part 284, subpart G of the Commission's Regulations [Docket No. CP06-451-000]. Kinder Morgan Louisiana seeks approval of proposed recourse rates for transportation service, approval of its pro forma tariff and the issuance of a preliminary determination providing for the Commission's early determination on nonenvironmental issues.

Also take notice that on September 8, 2006, Natural, 747 East 22nd Street, Lombard, Illinois 60148, filed an application in Docket No. CP06-448-000 pursuant to section 7(b) of the NGA, and part 157 of the Commission's Regulations for approval to abandon, by lease to Kinder Morgan Louisiana, certain firm capacity on a long-term basis. This application is related to, and is being filed concurrently with the applications being filed by Kinder Morgan Louisiana to construct a new interstate natural gas pipeline system in Louisiana, as listed above.

The details of these proposals are more fully set forth in these applications which are on file with the Commission and open for public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding these applications should be directed to Bruce H. Newsome, Vice President of Certificates and Rates, Kinder Morgan Louisiana Pipeline LLC and Vice President of Certificates and Rates, Natural Gas Pipeline Company of America, 747 East 22nd Street, Lombard, Illinois 60148-5072, telephone: (630) 691-3526, e-mail: bruce_newsome@kindermorgan.com.

Specifically, Kinder Morgan Louisiana requests authorization to construct its proposed Louisiana Pipeline Project which will consist of: (1) About 132 miles of 42-inch pipeline from the Cheniere Sabine Pass LNG Terminal (Sabine LNG Terminal) in Cameron Parish, Louisiana to a point of interconnection with an existing Columbia Gulf Transmission Company line in Evangeline Parish, Louisiana (Leg 1); (2) about 1 mile of 36-inch pipeline that will extend from the Sabine LNG Terminal to a point of interconnection with Natural's existing interstate pipeline located north of the Terminal (Leg 2); and (3) about 2.3 miles of 24-inch pipeline extending away from Leg 1 (at about milepost 110) to the existing Florida Gas Transmission Company compressor station in Acadia Parish, Louisiana.

Kinder Morgan Louisiana has entered into precedent agreements with Chevron U.S.A. and Total Gas Power North America providing for firm transportation service on its Louisiana Pipeline Project away from the Cheniere Sabine Pass LNG Terminal. To effectuate such transportation service, in part, Kinder Morgan Louisiana proposes to lease firm capacity from Natural. By leasing such capacity, Kinder Morgan Louisiana will reduce the overall cost and improve the efficiency of its Louisiana Pipeline Project, as well as lessen its environmental impact. Thus, Kinder Morgan Louisiana also seeks authorization to lease capacity of 200,000 Dth per day on the facilities of Natural in southern Louisiana. The estimated cost of the Louisiana Pipeline Project is about $517 million, including overhead, contingency, Section 2.55(a) auxiliary installations and reimbursement of facility costs to interconnect pipelines.

On February 17, 2006, the Commission granted Kinder Morgan Louisiana's request to utilize the National Environmental Policy Act (NEPA) Pre-Filing Process and assigned Docket No. PF06-16-000 to staff activities involving its proposed Louisiana Pipeline Project. Now, with the filing of the Louisiana Pipeline Project certificate applications, the NEPA Pre-Filing Process for this Project has ended. From this time forward, all proceedings involving the Louisiana Pipeline Project will be conducted in Docket Nos. CP06-449, et al., as listed above in the caption of this Notice.

As its part of the proposal, Natural seeks authority to abandon 200,000 Dth/d of firm capacity on its system by lease to Kinder Morgan Louisiana on a long-term basis pursuant to the terms of a capacity lease agreement between the parties dated August 31, 2006. The leased capacity will start at a point on Natural's Louisiana Line in Cameron Parish, Louisiana where it will interconnect with the Kinder Morgan Louisiana's Louisiana Pipeline Project. The leased capacity will extend east about 16 miles to a 24-inch lateral of Natural that extends south to Johnson's Bayou, where Kinder Morgan Louisiana proposes two delivery points. The leased capacity (200,000 Dth/d) will also exist in the interconnection facility between the Kinder Morgan Louisiana's Louisiana Pipeline Project and Natural's Louisiana Line, and in each of the two delivery points to be built at Johnson's Bayou.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 11, 2006.

Magalie R. Salas,
Secretary.

[FR Doc. E6-15669 Filed 9-25-06; 8:45 am]

BILLING CODE 6717-01-P